DEPARTMENT OF LABOR

Employment and Training Administration

Trade Adjustment Assistance Program: Training and Employment Guidance Letter

The Employment and Training Administration interprets Federal law requirements pertaining to Trade Adjustment Assistance (TAA). These interpretations are issued in Training and Employment Guidance Letters (TEGLs) to the State Workforce Agencies. The TEGL described below is published in the Federal Register in order to inform the public.

TEGL 2-03, Change 1, clarifies the interim operating instructions published in TEGL 2-03, and TEGL 2-03, Change 2, amends operating instructions issued in TEGL 2-03 and TEGL 2-03, Change 1.

TEGL 2-03 Change 1

TEGL 2-03 provided interim operating instructions for states to use in implementing the ATAA program. TEGL 2-03, Change 1, provides answers to questions the Department received concerning the operation of the ATAA program. The attachment restates the questions raised and provides the answers to those questions.

TEGL 2-03, Change 2

This TEGL modifies TEGL 2-03 and TEGL 2-03, Change 1, to allow certain certified worker groups to apply for ATAA retroactively. This will include workers who filed a petition using a form that did not include an opportunity to indicate whether or not the petitioner wished to request ATAA certification, and who either had a petition in process on August 6, 2003, or filed a petition on or after that date.

The instructions in TEGL 2-03, Change 1 and Change 2, are issued to the states and the cooperating state workforce agencies (SWAs) as guidance provided by the U.S. Department of Labor in its role as the principal in the TAA program. As agents of the Secretary of Labor, the states and cooperating SWAs may not vary from the instructions in TEGL 2-03, Change 1 and Change 2, without prior approval from the Department.

Dated: February 16, 2005.
Emily Stover DeRocco,
Assistant Secretary of Labor.

BILLING CODE 4310-30-M

[FR Doc. 05-3420 Filed 2-22-05; 8:45 am]

BILLING CODE 4510-30-C